FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 10714-034.

Title: Trans-Atlantic American Flag Liner Operators.

Parties: A.P. Moller-Maersk Sealand, American President Lines, Ltd., American Roll-On, Roll-Off Carrier, LLC, Farrell Lines Incorporated, Lykes Lines Limited, LLC, P&O Nedlloyd Limited.

Synopsis: The proposed agreement modification adds Alaska to the geographic scope and limits space chartering among the parties to ad hoc, sporadic, or emergency situations.

Agreement No.: 011375-058.

Title: Trans-Atlantic Conference Agreement.

Parties: Atlantic Container Line, A.P. Moller-Maersk Sealand, Hapag-Lloyd Container Line GmbH, Mediterranean Shipping Company S.A., Nippon Yusen Kaisha, Orient Overseas Container Line Limited, P&O Nedlloyd Limited.

Synopsis: The proposed amendment would authorize the parties to temporarily withdraw up to two vessels per week in the trade between the United States and Europe from late December 2001 to late January or early February 2002 and to redeploy such withdrawn vessels around the first week of March 2002.

By order of the Federal Maritime Commission.
Dated: November 2, 2001.
Bryant L. VanBrakle,
Secretary.

[FR Doc. 01-27956 Filed 11-6-01; 8:45 am]

BILLING CODE 6730-01-P